NUCLEAR REGULATORY COMMISSION

[NRC-2009-0185]

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from April 9, 2009 to April 22, 2009. The last biweekly notice was published on April 21, 2009 (74 FR 18251).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch, TWB-05-B01M, Division of Administrative Services, Office of Administration, U.S. Nuclear Regulatory Commission, Washington, DC 20555-0001, and should cite the publication date and page number of this Federal Register notice. Copies of written comments received may be examined at the Commission's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC electronic filing Help Desk, which is available between 8 a.m. and 8 p.m., Eastern Time, Monday through Friday, excluding government holidays. The help electronic filing Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Energy Northwest, Docket No. 50-397, Columbia Generating Station, Benton County, Washington

Date of amendment request: March 30, 2009.

Description of amendment request: The proposed changes would delete those portions of Technical Specifications (TSs) superseded by Title 10 of the Code of Federal Regulations (10 CFR) Part 26, Subpart I, consistent with U.S. Nuclear Regulatory Commission (NRC)-approved TS Task Force (TSTF) traveler TSTF-511, “Eliminate Working Hour Restrictions from TS 5.2.2 to Support Compliance with 10 CFR Part 26.”

The NRC issued a “Notice of Availability of Model Safety Evaluation, Model No Significant Hazards Determination, and Model Application for Licensees That Wish To Adopt TSTF-511, Revision 0, “Eliminate Working Hour Restrictions From TS 5.2.2 To Support Compliance With 10 CFR Part 26” in the Federal Register on December 30, 2008 (73 FR 79923). In its application dated March 30, 2009, the licensee affirmed the applicability of the model no significant hazards consideration.

Basis for proposed no significant hazards consideration determination: As required by 10 CFR 50.91(a), the licensee has provided its analysis of the issue of no significant hazards consideration, which is presented below:

Criterion 1: The proposed change does not involve a significant increase in the probability or consequences of an accident previously evaluated.

Response: No.

The proposed change removes TS restrictions on working hours for personnel who perform safety related functions. The TS restrictions are superseded by the worker fatigue requirements in 10 CFR Part 26. Removal of the TS requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The proposed change does not create the possibility of a new or different kind of accident from any accident previously evaluated.

Response: No.

The proposed change removes TS restrictions on working hours for personnel who perform safety related functions. The TS restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated. The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The proposed change does not involve a significant reduction in a margin of safety.

Response: No.

The proposed change removes TS restrictions on working hours for personnel who perform safety related functions. The TS restrictions are superseded by the worker fatigue requirements in 10 CFR Part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition. Removal of plant-specific TS administrative requirements will not reduce a margin of safety because the requirements in 10 CFR Part 26 are adequate to ensure that worker fatigue is managed.

Therefore, the proposed change does not involve a significant reduction in a margin of safety.

The NRC staff has reviewed the analysis adopted by the licensee and, based on this review, it appears that the three standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Michael T. Markley.

Exelon Generation Company, LLC, and PSEG Nuclear, LLC, Docket Nos. 50-277 and 50-278, Peach Bottom Atomic Power Station (PBAPS), Units 2 and 3, York and Lancaster Counties, Pennsylvania

Date of amendment request: August 7, 2008.

Description of amendment request: The submittal contains six proposed amendments that would modify the PBAPS Units 2 and 3 Operating Licenses DPR-44 and DPR-56, respectively. Four of the six amendments would incorporate Technical Specification Task Force (TSTF) travelers that have been previously approved by the Nuclear Regulatory Commission (NRC). The remaining proposed amendments would modify the PBAPS Units 2 and 3 Technical Specifications (TSs) to incorporate administrative changes and clarifications. Each of the six proposed TS amendments and the associated proposed no significant hazards consideration determinations are discussed below.

A proposed amendment to incorporate TSTF-363-A, “Revise Topical Report References in ITS [improved technical specifications] 5.6.5, COLR [Core Operating Limits Report],” Revision 0, would modify the PBAPS Units 2 and 3 TS 5.6.5, “Core Operating Limits Report (COLR),” to remove the requirement to maintain COLR Topical Report references by number, title, date, and NRC staff approved document, if included. Incorporation of the TSTF will permit referencing of the topical report by number and title only in the TSs. The additional details would be controlled within the COLR document instead of the TSs. Revision of these details would be subject to the requirements of Title 10 of the Code of Federal Regulations Part 50, Section 50.59 for any changes as opposed to TS amendment.

Basis for proposed no significant hazards consideration determination: As required by 10 CFR 50.91(a), the licensee has provided its analysis of the issue of no significant hazards consideration, which is presented below:

1. Does the proposed amendment involve a significant increase in the probability or consequences of an accident previously evaluated?

Response: No.

This action does not affect the plant or operation of the plant. The change simply removes technical details from the Technical Specifications already included in the COLR. These technical details will still be subject to the regulations in 10 CFR 50.59. Therefore, the proposed change does not involve a significant increase in the probability or consequences of an accident previously evaluated.

2. Does the proposed amendment create the possibility of a new or different kind of accident from any accident previously evaluated?

Response: No.

No new accident scenarios, failure mechanisms, or limiting single failures are introduced as a result of the proposed changes. All systems, structures, and components previously required for the mitigation of a transient remain capable of fulfilling their intended design functions. The proposed change has no adverse effects on any safety-related system or component and does not challenge the performance or integrity of any safety related system. This change is considered as an administrative action. Therefore, the proposed change does not create the possibility of a new or different kind of accident from any previously evaluated.

3. Does the proposed amendment involve a significant reduction in a margin of safety?

Response: No.

This administrative action does not involve any reduction in a margin of safety. The change simply removes technical details from the Technical Specifications already included in the COLR. These technical details will still be subject to the regulations in 10 CFR 50.59. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

A proposed amendment to incorporate TSTF-400-A, “Clarification of Surveillance Requirement on Bypass of Noncritical DG [diesel generator] Automatic Trips,” Revision 1, would modify the PBAPS Units 2 and 3 TS Surveillance Requirement (SR) 3.8.1.13 to clarify the intent of the SR. Specifically, the wording of the SR would be revised to clarify that the intent of the SR is to test non-critical Emergency DG automatic trips.

Basis for proposed no significant hazards consideration determination: As required by 10 CFR 50.91(a), the licensee has provided its analysis of the issue of no significant hazards consideration, which is presented below:

1. Does the proposed amendment involve a significant increase in the probability or consequences of an accident previously evaluated?

Response: No.

This change clarifies the purpose of SR 3.8.1.13, which is to verify that noncritical automatic Diesel Generator (DG) trips are bypassed in an accident. The DG automatic trips and their bypasses are not initiators of any accident previously evaluated. Therefore, the probability of any accident is not significantly increased. The function of the DG in mitigating accidents is not changed. The revised SR continues to ensure the DG will operate as assumed in the accident analysis. Therefore, the consequences of any accident previously evaluated are not affected.

Therefore, the proposed change does not involve a significant increase in the probability or consequences of an accident previously evaluated.

2. Does the proposed amendment create the possibility of a new or different kind of accident from any accident previously evaluated?

Response: No.

This change clarifies the purpose of SR 3.8.1.13, which is to verify that noncritical automatic DG trips are bypassed in an accident. The proposed change does not involve a physical alteration of the plant (no new or different type of equipment will be installed) or a change in the methods governing normal plant operation. Thus, the proposed change does not create the possibility of a new or different kind of accident from any accident previously evaluated.

3. Does the proposed amendment involve a significant reduction in a margin of safety?

Response: No.

This change clarifies the purpose of SR 3.8.1.13, which is to verify that noncritical automatic DG trips are bypassed in an accident. This change clarifies the purpose of the SR, which is to verify that the DG is capable of performing the assumed safety function. The safety function of the DG is unaffected, so the change does not affect the margin of safety. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

A proposed amendment to incorporate TSTF-439-A, “Elimination of Second Completion Times Limiting Time From Discovery of Failure To Meet an LCO,” Revision 2, would modify the PBAPS Units 2 and 3 TS Section 1.3, “Completion Times,” regarding second completion times for TS Action (TSA) statements. The plant TSs include Limiting Conditions of Operation (LCOs). LCOs are the minimum functional capabilities or performance levels of systems, structures and components (SSCs) that must be met in order for the plant to operate within its safety limits. A TSA is the required action that must be performed for an associated LCO. The PBAPS TSAs are composed of individual “conditions,” the associated action required for the condition, and the completion time for the associated action. The completion time is the time period specified in the TSA in which an action must be completed for a given condition. In some instances, alternate conditions could be entered and exited indefinitely such that operation of the plant could continue without ever restoring SSCs to meet the LCO. Additional secondary completion times (such as limits on the period of time from discovery of the failure to meet the LCO) were specified for these instances to preclude this practice. However, two programs have been instituted that provide a strong disincentive to licensees continuing operation with alternating TSAs for an LCO as described above. These programs are the Maintenance Rule and the Reactor Oversight Process. 10 CFR 50.65(a)(1), the Maintenance Rule, requires each licensee to monitor the performance or condition of SSCs against licensee-established goals to ensure that the SSCs are capable of fulfilling their intended functions. If the performance or condition of an SSC does not meet established goals, appropriate corrective action is required. The NRC Resident Inspectors monitor the licensee's Corrective Action process and could take action if the licensee's maintenance program allowed the systems required by a single LCO to become concurrently inoperable multiple times. The performance and condition monitoring activities required by 10 CFR 50.65(a)(1) and (a)(2) would identify if poor maintenance practices resulted in multiple entries into the ACTIONS of the TSs and unacceptable unavailability of these SSCs. The effectiveness of these performance monitoring activities, and associated corrective actions, is evaluated at least every refueling cycle, not to exceed 24 months per 10 CFR 50.65(a)(3).

NEI 99-02, “Regulatory Assessment Performance Indicator Guideline,” describes the tracking and reporting of performance indicators to support the NRC's Reactor Oversight Process (ROP). The NEI document is endorsed by Regulatory Issue Summary 2001-11, “Voluntary Submission Of Performance Indicator Data.” Extended unavailability due to multiple entries into the ACTIONS would affect the NRC's evaluation of the licensee's performance under the ROP.

In addition to these programs, a requirement is added to Section 1.3, “Completion Times,” of the TSs to require licensees to have administrative controls to limit the maximum time allowed for any combination of Conditions that result in a single contiguous occurrence of failing to meet the LCO. These administrative controls should consider plant risk and shall limit the maximum contiguous time of failing to meet the LCO.

Basis for proposed no significant hazards consideration determination: As required by 10 CFR 50.91(a), the licensee has provided its analysis of the issue of no significant hazards consideration, which is presented below:

1. Does the proposed amendment involve a significant increase in the probability or consequences of an accident previously evaluated?

Response: No.

The proposed change eliminates certain Completion Times from the Technical Specifications. Completion Times are not an initiator to any accident previously evaluated. As a result, the probability of an accident previously evaluated is not affected. The consequences of an accident during the revised Completion Time are no different than the consequences of the same accident during the existing Completion Times. As a result, the consequences of an accident previously evaluated are not affected by this change. The proposed change does not alter or prevent the ability of structures, systems, and components (SSCs) from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences. Therefore, the proposed change does not involve a significant increase in the probability or consequences of an accident previously evaluated.

2. Does the proposed amendment create the possibility of a new or different kind of accident from any accident previously evaluated?

Response: No.

The proposed change does not involve a physical alteration of the plant (i.e., no new or different type of equipment will be installed) or a change in the methods governing normal plant operation. The proposed change does not alter any assumptions made in the safety analysis. Therefore, the proposed change does not create the possibility of a new or different kind of accident from any accident previously evaluated.

3. Does the proposed amendment involve a significant reduction in a margin of safety?

Response: No.

The proposed change to delete the second Completion Time does not alter the manner in which safety limits, limiting safety system settings or limiting conditions for operation are determined. The safety analysis acceptance criteria are not affected by this change. The proposed change will not result in plant operation in a configuration outside of the design basis. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

A proposed amendment to incorporate TSTF-485-A, “Correct Example 1.4-1,” Revision 0, would modify the PBAPS Units 2 and 3 TS Section 1.4, “Frequency.” Specifically, Example 1.4-1 would be revised to be consistent with the requirements of SR 3.0.4 which was revised by TSTF-359, “Increase Flexibility in Mode Restraints,” Revision 9. The current version of Example 1.4-1 is not consistent with the current requirements of SR 3.0.4. Example 1.4-1 would be modified to reflect that it is possible to enter the MODE or other specified condition in the applicability of an LCO with a surveillance not performed within the frequency requirements of SR 3.0.2 without resulting in a violation of SR 3.0.4.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises Section 1.4, “Frequency,” Example 1.4-1, to be consistent with Surveillance Requirement (SR) 3.0.4 and Limiting Condition for Operation (LCO) 3.0.4. This change is considered administrative in that it modifies the example to demonstrate the proper application of SR 3.0.4 and LCO 3.0.4. The requirements of SR 3.0.4 and LCO 3.0.4 are clear and are clearly explained in the associated Bases. As a result, modifying the example will not result in a change in usage of the Technical Specifications (TS). The proposed change does not adversely affect accident initiators or precursors, the ability of structures, systems, and components (SSCs) to perform their intended function to mitigate the consequences of an initiating event within the assumed acceptance limits, or radiological release assumptions used in evaluating the radiological consequences of an accident previously evaluated. Therefore, this change is considered administrative and will have no effect on the probability or consequences of any accident previously evaluated.

Therefore, the proposed change does not involve a significant increase in the probability or consequences of an accident previously evaluated.

2. Does the proposed amendment create the possibility of a new or different kind of accident from any accident previously evaluated?

Response: No.

No new or different accidents result from utilizing the proposed change. The change does not involve a physical alteration of the plant (i.e., no new or different type of equipment will be installed) or a change in the methods governing normal plant operation. In addition, the change does not impose any new or different requirements or eliminate any existing requirements. The change does not alter assumptions made in the safety analysis. The proposed change is consistent with the safety analysis assumptions and current plant operating practice.

Therefore, the proposed change does not create the possibility of a new or different kind of accident from any accident previously evaluated.

3. Does the proposed amendment involve a significant reduction in a margin of safety?

Response: No.

The proposed change is administrative and will have no effect on the application of the Technical Specification requirements. Therefore, the margin of safety provided by the Technical Specification requirements is unchanged. There are no changes to the plant safety analyses involved with this change. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

A proposed amendment would modify the PBAPS Units 2 and 3 TS to incorporate two administrative changes. The first change would modify TS Table 3.3.8.1-1, “Loss of Power Instrumentation.” TS Table 3.3.8.1-1 lists the TS functions associated with the Loss of Power Instrumentation. The allowable values associated with the TS functions were revised as a result of a modification, but as described in the note, were to expire no later than March 1, 2000. The values in effect previous to the modification were retained in note (a) at the bottom of the Table. The previous values were retained as a note to allow for appropriate transition during the period of time that the modifications were being installed on Units 2 and 3.

The modifications are complete and the note is no longer necessary. Therefore, it is proposed to eliminate note (a) at the bottom of Table 3.3.8.1-1, as an administrative change to the TS.

The second change would modify TS Table 3.3.3.1-1, “Post Accident Monitoring Instrumentation,” to correct a typographical error. A previous license amendment incorporated TSTF-295, Revision 0, “Post Accident Monitoring Clarifications,” which included changing the title for Function 8 in TS Table 3.3.3.1-1 from, “PCIV Position,” to “Penetration Flow Path PCIV Position.” However, Function 8 was inadvertently revised on the PBAPS, Unit 2 page to state “Penetration Flaw Path PCIV Position.” The proposed amendment would correct this typographical error for Function 8 in Table 3.3.3.1-1 of the Unit 2 PBAPS TS.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes are administrative in nature and do not impact the operation, physical configuration, or function of plant structures, systems, or components (SSCs). Also, the proposed changes do not impact the initiators or assumptions of analyzed events, nor do the proposed changes impact the mitigation of accidents or transient events. Therefore, the proposed changes do not involve a significant increase in the probability or consequences of an accident previously evaluated.

2. Does the proposed amendment create the possibility of a new or different kind of accident from any accident previously evaluated?

Response: No.

The proposed changes are administrative in nature and do not alter plant configuration, require that new equipment be installed, alter assumptions made about accidents previously evaluated, or impact the operation or function of plant equipment.

Therefore, the proposed change does not create the possibility of a new or different kind of accident from any accident previously evaluated.

3. Does the proposed amendment involve a significant reduction in a margin of safety?

Response: No.

The proposed changes are administrative in nature and do not involve any physical changes to plant SSCs, or the manner in which SSCs are operated, maintained, modified, tested, or inspected. The proposed changes do not involve a change to any safety limits, limiting safety system settings, limiting conditions of operation, or design parameters for any SSC. The proposed changes do not impact any safety analysis assumptions and do not involve a change in initial conditions, system response times, or other parameters affecting any accident analysis. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

A proposed amendment would modify the PBAPS Units 2 and 3 TS to incorporate an administrative change to Table 3.3.1.1-1, “Reactor Protection System Instrumentation.” Specifically, the proposed change would modify TS Table 3.3.1.1-1 to delete the “NA” from the Allowable Value column for Function 2.1, “OPRM Upscale.” The reference to footnote “(d),” which states: “See COLR for OPRM period based detection algorithm (PBDA) setpoint limits,” will remain in the Allowable Value column for Function 2.f in TS Table 3.3.1.1-1.

Footnote “d” in TS Table 3.3.1.1-1 references the PBAPS Core Operating Limits Report (COLR) for setpoint limits associated with Function 2.f. There are trip setpoints maintained in the COLR which are considered applicable to the TSs since they satisfy the requirements of 10 CFR 50.36 for limiting safety system settings. Therefore, the “NA” designation associated with note “d” will be eliminated to preclude possible confusion.

Basis for proposed no significant hazards consideration determination: As required by 10 CFR 50.91(a), the licensee has provided its analysis of the issue of no significant hazards consideration, which is presented below:

1. Does the proposed amendment involve a significant increase in the probability or consequences of an accident previously evaluated?

Response: No.

The proposed change is administrative in nature and does not impact the operation, physical configuration, or function of plant structures, systems, or components (SSCs). Also, the proposed change does not impact the initiators or assumptions of analyzed events, nor does the proposed change impact the mitigation of accidents or transient events. Therefore, the proposed change does not involve a significant increase in the probability or consequences of an accident previously evaluated.

2. Does the proposed amendment create the possibility of a new or different kind of accident from any accident previously evaluated?

Response: No.

The proposed change is administrative in nature and does not alter plant configuration, require that new equipment be installed, alter assumptions made about accidents previously evaluated, or impact the operation or function of plant equipment. Therefore, the proposed change does not create the possibility of a new or different kind of accident from any accident previously evaluated.

3. Does the proposed amendment involve a significant reduction in a margin of safety?

Response: No.

The proposed change is administrative in nature and does not involve any physical changes to plant SSCs, or the manner in which SSCs are operated, maintained, modified, tested, or inspected. The proposed change does not involve a change to any safety limits, limiting safety system settings, limiting conditions of operation, or design parameters for any SSC. The proposed change does not impact any safety analysis assumptions and does not involve a change in initial conditions, system response times, or other parameters affecting any accident analysis. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. J. Bradley Fewell, Associate General Counsel, Exelon Generation Company LLC, 4300 Winfield Road, Warrenville, IL 60555.

NRC Branch Chief: Harold K. Chernoff.

FirstEnergy Nuclear Operating Company, Docket Nos. 50-334 and 50-412, Beaver Valley Power Station, Unit Nos. 1 and 2, Beaver County, Pennsylvania

Docket No. 50-346, Davis-Besse Nuclear Power Station, Unit No. 1, Ottawa County, Ohio

Docket No. 50-440, Perry Nuclear Power Plant, Unit No. 1, Lake County, Ohio

Date of amendment request: March 25, 2009.

Description of amendment request: The proposed amendment would delete those portions of the subject plants' Technical Specifications superseded by 10 CFR Part 26, Subpart I.

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR Part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR Part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: David W. Jenkins, Attorney, FirstEnergy Corporation, 76 South Main Street, Akron, Ohio 44308.

NRC Branch Chief: Russell Gibbs.

FirstEnergy Nuclear Operating Company, et al., Docket No. 50-440, Perry Nuclear Power Plant, Unit No. 1, Lake County, Ohio

Date of amendment request: March 11, 2009.

Description of amendment request: The proposed amendment would adopt the Technical Specification Task Force (TSTF) Standard Technical Specification (STS) change TSTF-475, Revision 1. The amendment would: (1) Revise the TS surveillance requirement (SR) frequency in TS 3.1.3, “Control Rod OPERABILITY” and (2) Revise Example 1.4-3 in Section 1.4 “Frequency” to clarify the applicability of the 1.25 surveillance test interval extension.

The Nuclear Regulatory Commission (NRC) staff issued a notice of opportunity for comment in the Federal Register on November 13, 2007 (72 FR 63935), on possible license amendments adopting TSTF-475 using the NRC's consolidated line item improvement process (CLIIP) for amending licensees' TSs, which included a model safety evaluation (SE) and model no significant hazards consideration (NSHC) determination. The NRC staff subsequently issued a notice of availability of the models for referencing in license amendment applications in the Federal Register on August 16, 2007 (72 FR 46103), which included the resolution of public comments on the model SE. The August 16, 2007, notice of availability referenced the November 13, 2007, notice. The licensee has affirmed the applicability of the November 13, 2007, NSHC determination in its application.

Basis for proposed no significant hazards consideration determination: As required by 10 CFR 50.91(a), an analysis of the issue of no significant hazards consideration is presented below:

Criterion 1—The Proposed Change Does Not Involve a Significant Increase in the Probability or Consequences of an Accident Previously Evaluated.

The proposed change generically implements TSTF-475, Revision 1, “Control Rod Notch Testing Frequency and SRM Insert Control Rod Action.” TSTF-475, Revision 1 modifies NUREG-1433 (BWR/4) and NUREG-1434 (BWR/6) STS. The changes: (1) revise TS testing frequency for surveillance requirement (SR) 3.1.3.2 in TS 3.1.3, “Control Rod OPERABILITY”, (2) clarify the requirement to fully insert all insertable control rods for the limiting condition for operation (LCO) in TS 3.3.1.2, Required Action E.2, “Source Range Monitoring Instrumentation” (NUREG-1434 only), and (3) revise Example 1.4-3 in Section 1.4 “Frequency” to clarify the applicability of the 1.25 surveillance test interval extension. This change does not affect either the design or operation of the Control Rod Drive Mechanism (CRDM). The affected surveillance and Required Action is not considered to be an initiator of any analyzed event. Revising the frequency for notch testing fully withdrawn control rods will not affect the ability of the control rods to shutdown the reactor if required. Given the extremely reliable nature of the CRDM, as demonstrated through industry operating experience, the proposed monthly notch testing of all withdrawn control rods continues to provide a high level of confidence in control rod operability. Hence, the overall intent of the notch testing surveillances, which is to detect either random stuck control rods or identify generic concerns affecting control rod operability, is not significantly affected by the proposed change. Requiring control rods to be fully inserted when the associated SRM is inoperable is consistent with other similar requirements and will increase the shutdown margin. The clarification of Example 1.4-3 in Section 1.4 “Frequency” is an editorial change made to provide consistency with other discussions in Section 1.4. Therefore, the proposed changes do not involve a significant increase in the probability or consequences of an accident previously evaluated. The consequences of an accident after adopting TSTF-475, Revision 1 are no different than the consequences of an accident prior to adoption. Therefore, this change does not involve a significant increase in the probability or consequences of an accident previously evaluated.

Criterion 2—The Proposed Change Does Not Create the Possibility of a New or Different Kind of Accident from any Accident Previously Evaluated.

The proposed change does not involve a physical alteration of the plant (no new or different type of equipment will be installed) or a change in the methods governing normal plant operation. The proposed change will not introduce new failure modes or effects and will not, in the absence of other unrelated failures, lead to an accident whose consequences exceed the consequences of accidents previously analyzed. Thus, this change does not create the possibility of a new or different kind of accident from any accident previously evaluated.

Criterion 3—The Proposed Change Does Not Involve a Significant Reduction in the Margin of Safety.

TSTF-475, Revision 1 will: (1) Revise the TS SR 3.1.3.2 frequency in TS 3.1.3, “Control Rod OPERABILITY”, (2) clarify the requirement to fully insert all insertable control rods for the limiting condition for operation (LCO) in TS 3.3.1.2, “Source Range Monitoring Instrumentation,” and (3) revise Example 1.4-3 in Section 1.4 “Frequency” to clarify the applicability of the 1.25 surveillance test interval extension. The GE Nuclear Energy Report, “CRD Notching Surveillance Testing for Limerick Generating Station,” dated November 2006, concludes that extending the control rod notch test interval from weekly to monthly is not expected to impact the reliability of the scram system and that the analysis supports the decision to change the surveillance frequency. Therefore, the proposed changes in TSTF-475, Revision 1 do not involve a significant reduction in a margin of safety.

The NRC staff proposes to determine that the amendment requests involve no significant hazards consideration.

Attorney for licensee: David W. Jenkins, Attorney, FirstEnergy Corporation, Mail Stop A-GO-15, 76 South Main Street, Akron, OH 44308.

NRC Branch Chief: Russell Gibbs.

FPL Energy Seabrook, LLC Docket No. 50-443, Seabrook Station, Unit No. 1, Rockingham County, New Hampshire

Date of amendment request: February 18, 2009.

Description of amendment request: The proposed changes would eliminate Working Hour Restrictions from Technical Specification (TS) 6.2.2 to support compliance with Title 10 of the Code of Federal Regulations (10 CFR) Part 26, Subpart I, consistent with the U.S. Nuclear Regulatory Commission (NRC) approved TS Task Force (TSTF) traveler TSTF-511, “Eliminate Working Hour Restrictions from TS 5.2.2 to Support Compliance with 10 CFR Part 26.”

The NRC issued a “Notice of Availability of Model Safety Evaluation, Model No Significant Hazards Determination, and Model Application for Licensees That Wish To Adopt TSTF-511, Revision 0, `Eliminate Working Hour Restrictions From TS 5.2.2 To Support Compliance With 10 CFR Part 26'” in the Federal Register on December 30, 2008 (73 FR 79923). In its application dated February 18, 2009, the licensee concluded that the no significant hazards consideration (NSHC) determination presented in the notice is applicable to Seabrook Station.

Basis for proposed NSHC determination: As required by 10 CFR 50.91(a), the licensee has provided its analysis of the issue of NSHC, which is presented below:

Criterion 1: The proposed change does not involve a significant increase in the probability or consequences of an accident previously evaluated.

The proposed change removes Technical Specification restrictions on working hours for personnel who perform safety-related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The proposed change does not create the possibility of a new or different kind of accident from any accident previously evaluated.

The proposed change removes Technical Specification restrictions on working hours for personnel who perform safety-related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any accident initiators, or affect the function of plant systems or the manner in which systems are operated, maintained, modified, tested, or inspected.

Therefore, the proposed change does not create the possibility of a new or different kind of accident from any previously evaluated.

Criterion 3: The proposed change does not involve a significant reduction in a margin of safety.

The proposed change removes Technical Specification restrictions on working hours for personnel who perform safety-related functions. The Technical Specification restrictions are superseded by the worker fatigue requirements in 10 CFR Part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR Part 26 are adequate to ensure that worker fatigue is managed.

Therefore, the proposed change does not involve a significant reduction in a margin of safety.

The NRC staff has reviewed the licensee's analysis, and based on this review, it appears that the three standards of 50.92(c) are satisfied. Therefore, the NRC staff proposes to determine that the amendment request involves NSHC.

Attorney for licensee: M.S. Ross, Florida Power & Light Company, P.O. Box 14000, Juno Beach, FL 33408-0420.

NRC Acting Branch Chief: Richard Ennis.

Indiana Michigan Power Company (the licensee), Docket No. 50-315 and 50-316, Donald C. Cook Nuclear Plant (CNP), Units 1 and 2, Berrien County, Michigan

Date of amendment request: January 14, 2009.

Description of amendment request: The proposed amendment would modify the Operating License (OL), Condition 2.C.(2) and Appendix B, Environmental Technical Specifications, Part II, “Non-Radiological Environmental Protection Plan [EPP].” The licensee states that the proposed amendment is administrative in nature and intended to delete obsolete program information to relieve CNP of the burden of preparing and submitting unnecessary environmental reports.

Basis for proposed no significant hazards consideration determination: As required by 10 CFR 50.91(a), the licensee has provided its analysis of the issue of no significant hazards consideration, which is presented below:

1. Does the proposed change involve a significant increase in the probability or consequences of an accident previously evaluated?

Response: No.

The Environmental Protection Plant (EPP) is concerned with monitoring the effect that plant operations have on the environment for the purpose of protecting the environment and has no effect on any accident postulated in the Updated Final Safety Analysis Report. Accident probabilities or consequences are not affected in any way by the environmental monitoring and reporting required by the EPP. The revision or deletion of portions of Appendix B of the OL will not impact the design or operation of any plant system or component. No environmental protection requirements established by other federal, state, or local agencies are being reduced by this license amendment request.

Therefore, the proposed changes do not involve a significant increase in the probability of occurrence or consequences of an accident previously evaluated.

2. Does the proposed change create the possibility of a new or different kind of accident from any accident previously evaluated?

Response: No.

The proposed changes are administrative in nature. Environmental monitoring and reporting have no effect on accident initiation. The deletion of portions of Appendix B of the OL will not impact the design or operation of any plant system or component. There will be no affect on the types or amount of any effluents released from CNP.

Therefore, the proposed changes do not create the possibility of a new or different kind of accident from any accident previously evaluated.

3. Does the proposed change involve a significant reduction in a margin of safety?

Response: No.

These proposed changes are administrative in nature. Changes in the reporting requirements and other administrative revisions in accordance with this submittal have no impact on margin of safety. Environmental evaluations will still be performed, when necessary, on changes to plant design or operation to assess the affect on environmental protection. Review, analysis, and investigation of unusual and important environmental events will still be performed in accordance with CNP's Corrective Action Program.

Therefore, the proposed amendment would not involve a significant reduction in the margin of safety.

The NRC staff has reviewed the licensee's analysis and, based on this review, it appears that the three standards of 10 CFR 50.92(c) are satisfied. Therefore, the NRC staff proposes to determine that the amendment requests involve no significant hazards consideration.

Attorney for licensee: James M. Petro, Jr., Senior Nuclear Counsel, Indiana Michigan Power Company, One Cook Place, Bridgman, MI 49106.

NRC Branch Chief: Lois M. James.

Indiana Michigan Power Company (the licensee), Docket Nos. 50-315 and 50-316, Donald C. Cook Nuclear Plant, Units 1 and 2 (CNP-1 and CNP-2), Berrien County, Michigan

Date of amendment request: March 19, 2009.

Description of amendment request: The proposed amendment would delete those portions of the Technical Specifications (TSs) superseded by 10 CFR Part 26, Subpart I. The proposed change is consistent with Nuclear Regulatory Commission (NRC)-approved Technical Specification Task Force (TSTF) Improved Standard TS Change Traveler, TSTF-511, “Eliminate Working Hour Restrictions from TS 5.2.2 to Support Compliance with 10 CFR Part 26,” Revision 0. The availability of this TS improvement was announced in the Federal Register (FR) on December 30, 2008 (73 FR 79923) as part of the consolidated line item improvement process. The licensee concluded that the no significant hazards consideration determination as presented in the FR notice is applicable to CNP-1 and CNP-2.

Basis for proposed no significant hazards consideration determination: As required by 10 CFR 50.91(a), the licensee has provided its analysis of the issue of no significant hazards consideration, which is presented below:

Criterion 1: The proposed change does not involve a significant increase in the probability or consequences of an accident previously evaluated.

The proposed change removes TS restrictions on working hours for personnel who perform safety-related functions. The TS restrictions are superseded by the worker fatigue requirements in 10 CFR Part 26. Removal of the TS requirements will be performed concurrently with the implementation of the 10 CFR Part 26, Subpart I, requirements. The proposed change does not impact the physical configuration or function of plant structures, systems, or components (SSCs) or the manner in which the SSCs are operated, maintained, modified, tested, and inspected. Worker fatigue is not an initiator of any accident previously evaluated. Worker fatigue is not an assumption in the consequence mitigation of any accident previously evaluated.

Therefore, it is concluded that this change does not involve a significant increase in the probability or consequences of an accident previously evaluated.

Criterion 2: The proposed change does not create the possibility of a new or different kind of accident from any accident previously evaluated.

The proposed change removes TS restrictions on working hours for personnel who perform safety-related functions. The TS restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any [accident] previously evaluated.

Criterion 3: The proposed change does not involve a significant reduction in a margin of safety.

The proposed change removes TS restrictions on working hours for personnel who perform safety-related functions. The TS restrictions are superseded by the worker fatigue requirements in 10 CFR Part 26. The proposed change does not involve any physical changes to the plants or alter the manner in which plant systems are operated, maintained, modified, tested, and inspected. The proposed change does not alter the manner in which safety limits, limiting safety system settings or limiting conditions for operation are determined. The safety analysis acceptance criteria are not affected by this change. The proposed change will not result in plant operation in a configuration outside the design basis. The proposed change does not adversely affect systems that respond to safely shutdown the plants and to maintain the plants in a safe shutdown condition.

Removal of plant-specific TS administrative requirements will not reduce a margin of safety because the requirements in 10 CFR Part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: James M. Petro, Jr., Senior Nuclear Counsel, Indiana Michigan Power Company, One Cook Place, Bridgman, MI 49106.

NRC Branch Chief: Lois M. James.

Luminant Generation Company LLC, Docket Nos. 50-445 and 50-446, Comanche Peak Steam Electric Station, Units 1 and 2, Somervell County, Texas

Date of amendment request: March 4, 2009.

Brief description of amendments: The amendment adds a license condition for submittal of inservice inspection (ISI) information and analyses requested in Section (e) of the final rule in Title 10 of the Code of Federal Regulations (10 CFR), Part 50.61a, or the proposed rule (October 3, 2007; 72 FR 56275), prior to issuance of the 10 CFR 50.61a, within 1 year of completing each American Society of Mechanical Engineers Boiler and Pressure and Vessel Code (ASME Code), Section XI, Category B-A and B-D reactor vessel (RV) weld inspections. This amendment request is associated with the request for relief to extend the ISI interval for ASME Code, Section XI, Category B-A and B-D RV welds from 10 years to 20 years (TAC Nos. ME0777 and ME0778) and the license condition will be added in accordance with the conditions and limitations of U.S. Nuclear Regulatory Commission (NRC) approved WCAP-16168-NP, Revision 2, “Risk-Informed Extension of the Reactor Vessel In-service Inspection Interval.”

Basis for proposed no significant hazards consideration determination: As required by 10 CFR 50.91(a), the licensee has provided its analysis of the issue of no significant hazards consideration, which is presented below:

1. Does the proposed change involve a significant increase in the probability or consequences of an accident previously evaluated?

Response: No.

The proposed change will revise the license to require the submission of information and analyses to the NRC following completion of each ASME Code, Section Xl, Category B-A and B-D Reactor Vessel weld inspection. The extension of the ISI from 10 to 20 years is being evaluated as part of the relief request independent from the proposed operating license change. Submission of the information and analyses can have no effect on the consequences of an accident or the probability of an accident because the submission of information is not related to the operation of the plant or any equipment, the programs and procedures used to operate the plant, or the evaluation of accidents. The submittal of information and analyses provides the opportunity for the NRC to independently assess the information and analyses.

2. Does the proposed change create the possibility of a new or different kind of accident from any accident previously evaluated?

Response: No.

The proposed change will only affect the requirement to submit information and analyses when specified inspections are performed. There are no changes to plant equipment, operating characteristics or conditions, programs and procedures or training. Therefore, there are no potential new system interactions or failures that could create the possibility of a new or different kind of accident from any accident previously evaluated.

3. Does the proposed change involve a significant reduction in a margin of safety?

Response: No.

The proposed change will revise the license to require the submission of information and analyses to the NRC following completion of each ASME Code, Section Xl, Category B-A and B-D Reactor Vessel weld inspection. The requirement to submit information and analyses is an administrative tool to assure the NRC has the ability to independently review information developed by the Licensee. The proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Timothy P. Matthews, Esq., Morgan, Lewis and Bockius, 1800 M Street, NW., Washington, DC 20036.

NRC Branch Chief: Michael T. Markley.

National Aeronautics and Space Administration, Docket Nos. 50-30 and 50-185, Plum Brook Reactor Facility, Sandusky, Ohio

Date of application for amendment: January 9, 2009.

Brief description of amendment: The proposed amendment would add a new paragraph to Licenses TR-3 and R-93 requiring that the National Aeronautics and Space Administration assess the residual radioactivity and demonstrate that the stream bed and banks of Plum Brook between Plum Brook Station boundary and Sandusky Bay meet the radiological criteria for unrestricted use specified in 10 CFR 20.1402 prior to terminating Licenses TR-3 and R-93.

Basis for proposed no significant hazards consideration determination: As required by 10 CFR 50.91(a), the licensee has provided its analysis of the issue of no significant hazards consideration, which is presented below:

A. The proposed amendment to Licenses TR-3 and R-93 does not involve a significant increase in the probability or consequences of an accident previously analyzed.

The accident scenarios applicable to the decommissioning of the Plum Brook

Reactor Facility are described in section 3.3 of the Decommissioning Plan for the Plum Brook Reactor. The Decommissioning Plan describes postulated events that could result in a release of radioactive materials from the site and analyzes the radiation dose consequences of these events and demonstrates that no adverse public health and safety impacts are expected from these events. Radiological assessment of the residual radioactivity in environmental areas involves sampling and performance of surveys. Spot remediation of some areas will be performed to assure that the as low as reasonably achievable criteria are met. These activities will involve handling and movements of minimal quantities of radioactive material and will involve methods and processes similar to those used for onsite radiological decontamination and remediation. Further, since any planned spot remediation will involve the handling of extremely small quantities of radioactive material, the consequences of any postulated accidents will be a small fraction of the consequences of the accidents previously analyzed in the Decommissioning Plan. Therefore, the proposed amendment will not increase the probability or consequences of accidents previously analyzed.

B. The proposed amendment to Licenses TR-3 and R-93 will not create the possibility of a new or different kind of accident from any accident previously evaluated.

Accidents previously analyzed in the Decommissioning Plan assess different scenarios that could cause the dispersion of radioactive material to the environment. These scenarios arise from dismantlement activities associated with the decommissioning. Assessment of residual radioactivity in Plum Brook involve samples and survey activities that use techniques and processes that are comparable to those used in on-site assessments. In addition, radioactivity that will remain in the environmental areas after License Termination will meet the regulatory criteria for unrestricted use specified in 10 CFR 20.1402. Therefore, no new or different types of accidents are created by this proposed amendment.

C. The proposed amendment to Licenses TR-3 and R-93 will not involve a significant reduction in a margin of safety.

As discussed previously, the activities that will be performed at the facility are as previously described and evaluated in the accident analyses presented in the Decommissioning Plan. The radiological criteria to be used in applying for termination of the NRC Licenses will remain the same as originally proposed and are consistent with the criteria of 10 CFR 20 Subpart E for unrestricted use. The results of assessments performed by the Licensee will remain subject to review by the NRC for adequate implementation of the license termination criteria. Therefore, the margins of safety applicable to assessing the long term dose to members of the public from exposure to the facility after termination of the license remain unchanged. In addition, since this amendment does not impact any previously reviewed accident analyses as previously discussed, no margins of safety are affected by this proposed amendment.

The NRC staff has reviewed the licensee's analysis and, based on this review, it appears that the three standards of 10 CFR 50.92(c) are satisfied. Therefore, the NRC staff proposes to determine that the amendment request involves no significant hazards consideration.

Attorney for the Licensee: J. William Sikora, Esquire, 21000 Bookpark Road, Mail Stop 500-118, Cleveland, Ohio 44135.

NRC Branch Chief: Rebecca Tadesse.

Nebraska Public Power District, Docket No. 50-298, Cooper Nuclear Station, Nemaha County, Nebraska

Date of amendment request: March 11, 2009.

Description of amendment request: The proposed amendment would revise Surveillance Requirements 3.8.4.2 and 3.8.4.5 in Technical Specification (TS) Section 3.8.4, “DC [Direct Current] Sources—Operating,” by adding a parameter of total battery resistance to the values of battery connection resistance. The proposed changes correct nonconservative TSs.

Basis for proposed no significant hazards consideration determination: As required by 10 CFR 50.91(a), the licensee has provided its analysis of the issue of no significant hazards consideration, which is presented below:

1. Do the proposed changes involve a significant increase in the probability or consequences of an accident previously evaluated?

Response: No.

Performing surveillances that test the resistance and capacity of batteries is not a precursor of any accident previously evaluated. Adding a new parameter as an acceptance criterion for successful test of the batteries does not significantly affect the method of performing the surveillances, such that the probability of an accident would be affected. Therefore, the proposed changes do not result in a significant increase in the probability of an accident previously evaluated.

Revision of the surveillances by adding total battery resistance as a parameter to be monitored will help to ensure that the voltage and capacity of the batteries is such that they will provide the power assumed in calculations of design basis accident mitigation. Therefore, the change does not involve a significant increase in the consequences of an accident previously evaluated.

NPPD [Nebraska Public Power District] concludes that the proposed changes do not involve a significant increase in the probability or consequences of an accident previously evaluated.

2. Do the proposed changes create the possibility of a new or different kind of accident from any accident previously evaluated?

Response: No.

The proposed change does not involve any modification of the plant or how the plant is operated. Therefore, NPPD concludes that these proposed changes do not create the possibility of a new or different kind of accident from any previously evaluated.

3. Do the proposed changes involve a significant reduction in a margin of safety?

Response: No.

The proposed change will continue to ensure that the station batteries are able to perform their design function as assumed in calculations that evaluate their function during design basis accidents. The proposed change will not affect the design or functioning of the Reactor Protection System, the Emergency Core Cooling Systems, or containment. Based on this, the ability of CNS [Cooper Nuclear Station] to mitigate the design basis accidents that rely on operation of the station batteries is not adversely impacted. Therefore, NPPD concludes that these proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Michael T. Markley.

PPL Susquehanna, LLC, Docket Nos. 50-387 and 50-388, Susquehanna Steam Electric Station, Units 1 and 2, Luzerne County, Pennsylvania

Date of amendment request: March 24, 2009.

Description of amendment request: The proposed amendment would delete Technical Specification (TS) Section 5.2.2.e, which is superseded by Title 10 of the Code of Federal Regulations (10 CFR) Part 26, “Fitness For Duty Programs,” Subpart I, “Managing Fatigue.” This change is consistent with U.S. Nuclear Regulatory Commission (NRC) approved Revision 0 to Technical Specification Task Force (TSTF) Improved Standard Technical Specification Change Traveler, TSTF-511, “Eliminate Working Hour Restrictions from TS 5.2.2 to Support Compliance with 10 CFR Part 26.”

The NRC issued a notice of the issuance of a final rule in the Federal Register (73 FR 16966, March 31, 2008) that amended 10 CFR Part 26. The revised regulations in 10 CFR Part 26, Subpart I supersede working hour restrictions contained in TSs. Public comment periods for the proposed changes to 10 CFR Part 26 were provided prior to the amendment of Part 26. The NRC staff subsequently issued a notice of availability of the model License Amendment Request (LAR), model Safety Evaluation (SE), and model proposed No Significant Hazards Consideration (NSHC) determination for referencing in license amendment applications using Consolidated Line Item Improvement Process (CLIIP), in the Federal Register on December 30, 2008 (73 FR 79923). No public comment period was provided for the model LAR, model SE, and model NSHC determination provided in the notice of availability since the notice of availability was used to implement the changes to 10 CFR Part 26, for which previous comment periods were provided. The licensee affirmed the applicability of the model NSHC determination in its application dated March 24, 2009.

Basis for proposed no significant hazards consideration determination: As required by 10 CFR 50.91(a), an analysis of the issue of no significant hazards consideration is presented below:

Criterion 1: The proposed change does not involve a significant increase in the probability or consequences of an accident previously evaluated.

The proposed change removes Technical Specification restrictions on working hours for personnel who perform safety related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The proposed change does not create the possibility of a new or different kind of accident from any accident previously evaluated.

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

Criterion 3: The proposed change does not involve a significant reduction in a margin of safety.

The proposed change removes Technical Specification restrictions on working hours for personnel who perform safety related functions. The Technical Specification restrictions are superseded by the worker fatigue requirements in 10 CFR Part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition. Removal of plant-specific Technical Specification administrative requirements will not reduce a margin of safety because the requirements in 10 CFR Part 26 are adequate to ensure that worker fatigue is managed.

Therefore, the proposed change does not involve a significant reduction in a margin of safety.

Based on the above, the NRC staff concludes that the proposed change presents no significant hazards consideration under the standards set forth in 10 CFR 50.92(c), and, accordingly, a finding of “no significant hazards consideration” is justified.

Attorney for licensee: Bryan A. Snapp, Esquire, Assoc. General Counsel, PPL Services Corporation, 2 North Ninth St., GENTW3, Allentown, PA 18101-1179.

NRC Branch Chief: John Boska (Acting).

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Arizona Public Service Company, et al., Docket Nos. STN 50-528, STN 50-529, and STN 50-530, Palo Verde Nuclear Generating Station, Unit Nos. 1, 2, and 3, Maricopa County, Arizona

Date of application for amendment: July 2, 2008.

Brief description of amendment: The amendments revised Technical Specification (TS) 4.2.2, “Control Element Assemblies,” to allow replacement of the full-strength control element assemblies (CEAs) with CEAs of a new design beginning with the Palo Verde Nuclear Generating Station (PVNGS), Unit 3 fourteenth refueling outage (U3R14) in the spring of 2009. Additionally, the TS is revised to remove the registered trademark “Inconel” while retaining the generic terminology “Alloy 625” and deleting the references to part-length CEAs in TS 4.2.2.

Date of issuance: April 17, 2009.

Effective date: As of the date of issuance and shall be implemented within 60 days from the date of issuance.

Amendment No.: Unit 1—172; Unit 2—172; Unit 3—172.

Facility Operating License Nos. NPF-41, NPF-51, and NPF-74: The amendment revised the Operating Licenses and Technical Specifications.

Date of initial notice in Federal Register: January 27, 2009 (74 FR 4766).

The Commission's related evaluation of the amendments is contained in a Safety Evaluation dated April 17, 2009.

No significant hazards consideration comments received: No.

Carolina Power & Light Company, Docket Nos. 50-325 and 50-324, Brunswick Steam Electric Plant, Units 1 and 2, Brunswick County, North Carolina

Date of application for amendments: November 24, 2008, as supplemented by letter dated April 2, 2009.

Brief Description of amendments: The amendments delete Technical Specification (TS) 3.6.3.2, “Containment Atmosphere Dilution (CAD) System,” and the associated TS Bases that will result in modifications to containment combustible gas control TS requirements as permitted by 10 CFR 50.44. This change is consistent with NRC-approved Revision 2 of Technical Specifications Task Force (TSTF) Improved Standard Technical Specifications Change Traveler 478 (TSTF- 478), “BWR [Boiling Water Reactor] Technical Specification Changes that Implement the Revised Rule for Combustible Gas Control.” TSTF-478, Revision 2 also makes TS and associated TS Bases changes for the TS section on Drywell Cooling System Fans. Since Brunswick Steam Electric Plant, Units 1 and 2 TSs do not have this TS section, these changes are not needed. The availability of TSTF-478 was announced in the Federal Register on November 21, 2007 (72 FR 65610), as part of the consolidated line item improvement process.

Date of issuance: April 13, 2009.

Effective date: As of the date of issuance and shall be implemented within 120 days.

Amendment Nos: 252 and 280.

Facility Operating License Nos. DPR-71 and DPR-62: Amendments change the Technical Specifications.

Date of initial notice in Federal Register: February 10, 2009 (74 FR 6664). The supplemental letter provided clarifying information that was within the scope of the initial notice and did not change the initial proposed no significant hazards consideration.

The Commission's related evaluation of the amendments is contained in a Safety Evaluation dated April 13, 2009.

No significant hazards consideration comments received: No.

Duke Energy Carolinas, LLC, et al., Docket Nos. 50-414, Catawba Nuclear Station, Unit 2, York County, South Carolina

Date of application for amendments: November 13, 2008, as supplemented by letters dated February 5, 2009, and February 19, 2009.

Brief description of amendments: The amendment revised the Technical Specifications and revised a license condition to incorporate an interim alternate repair criterion for steam generator tube repair criteria during the End of Cycle 16 refueling outage and subsequent cycle 17 operation.

Date of issuance: April 13, 2009.

Effective date: As of the date of issuance and shall be implemented within 30 days from the date of issuance. However, the license condition on page 2 of Appendix B of the license shall be implemented prior to any entry into Mode 4 during cycle 17 operation.

Amendment Nos.: 244.

Facility Operating License No. NPF-52: Amendment revised the license and the technical specifications.

Date of initial notice in Federal Register: February 24, 2009 (74 FR 8278). Supplements sent by letters dated February 5, 2009, and February 19, 2009, provided additional information that clarified the application, did not expand the scope of the application as originally noticed, and did not change the staff's original proposed no significant hazards consideration determination.

The Commission's related evaluation, state consultation, and final no significant hazards consideration determination of the amendment are contained in a Safety Evaluation dated April 13, 2009.

No significant hazards consideration comments received: No.

Entergy Nuclear Operations, Inc., Docket No. 50-247, Indian Point Nuclear Generating Unit No. 2, Westchester County, New York

Date of application for amendment: July 9, 2008, as supplemented by letters dated September 29, October 3, and October 8, 2008, and February 6, 2009.

Brief description of amendment: The amendment revises the Technical Specifications (TSs) by revising the test acceptance criteria specified in the TS surveillance requirement for the emergency diesel generator endurance test.

Date of issuance: April 22, 2009.

Effective date: As of the date of issuance, and shall be implemented within 30 days.

Amendment No.: 259.

Facility Operating License No. DPR-26: The amendment revised the License and the Technical Specifications.

Date of initial notice in Federal Register: September 9, 2008 (73 FR 52416). The September 29, October 3, and October 8, 2008, and February 6, 2009, supplements provided additional information that clarified the application, did not expand the scope of the application as originally noticed, and did not change the NRC staff's original proposed no significant hazards consideration determination as published in the Federal Register.

The Commission's related evaluation of the amendment is contained in a Safety Evaluation dated April 22, 2009.

No significant hazards consideration comments received: No.

FirstEnergy Nuclear Operating Company, et al., Docket Nos. 50-334 and 50-412, Beaver Valley Power Station, Unit Nos. 1 and 2 (BVPS-1 and -2), Beaver County, Pennsylvania

Date of application for amendment: September 24, 2008, as supplemented on November 10, 2008.

Brief description of amendment: The amendments revise Technical Specifications (TSs) associated with replacing sodium hydroxide with sodium tetraborate as a chemical additive for containment sump pH control following a loss-of-coolant accident at BVPS-2. Due to common TSs for BVPS-1 and -2, administrative changes were made to BVPS-1 license to reflect the BVPS-2 changes.

Date of issuance: April 16, 2009.

Effective date: As of the date of issuance and shall be implemented prior to achieving Mode 4 during startup from the BVPS-2 refueling outage in the fall of 2009.

Amendment Nos.: 283 and 168.

Facility Operating License Nos. DPR-66 and NPF-73: Amendments revise the License and TSs.

Date of initial notice in Federal Register: January 27, 2009 (74 FR 4772). The November 10, 2008, supplemental letter provided clarifying information that was within the scope of the initial notice and did not change the initial proposed no significant hazards consideration determination.

The Commission's related evaluation of the amendment is contained in a Safety Evaluation dated April 16, 2009.

No significant hazards consideration comments received: No.

Florida Power Corporation, et al., Docket No. 50-302, Crystal River Unit No. 3 Nuclear Generating Plant, Citrus County, Florida

Date of application for amendment: December 17, 2008, supplemented by letter dated January 29, 2009.

Brief description of amendment: The amendment revises the Crystal River Unit 3 Improved Technical Specifications Administrative Controls, Section 5.6.2.9, “Inservice Testing Program,” to incorporate the Technical Specification Task Force (TSTF) Standard TS Change Traveler, TSTF-479, Revision 0, “Changes to Reflect Revision of 10 CFR 50.55a,” and TSTF-497, Revision 0, “Limit Inservice Testing Program SR 3.0.2 Application to Frequencies of 2 Years or Less.”

Date of issuance: April 13, 2009.

Effective date: Date of issuance, to be implemented within 30 days.

Amendment No.: 232.

Facility Operating License No. DPR-72: Amendment revises the technical specifications.

Date of initial notice in Federal Register: January 27, 2009 (74 FR 4773). The supplemental letter provided clarifying information that was within the scope of the initial notice and did not change the initial proposed no significant hazards consideration.

The Commission's related evaluation of the amendment is contained in a Safety Evaluation dated April 13, 2009.

No significant hazards consideration comments received: No.

Florida Power and Light Company, et al., Docket Nos. 50-335 and 50-389, St. Lucie Plant, Unit Nos. 1 and 2, St. Lucie County, Florida

Date of application for amendments: July 10, 2008.

Brief description of amendments: The amendments modified Technical Specification (TS) requirements related to diesel fuel oil testing consistent with Nuclear Regulatory Commission approved Industry/Technical Specification Task Force (TSTF) TSTF-374, “Revision to TS 5.5.13 and Associated TS Bases for Diesel Fuel Oil,” Revision 0.

Date of issuance: April 14, 2009.

Effective date: As of the date of issuance and shall be implemented within 60 days of issuance.

Amendment Nos.: 207 and 155.

Renewed Facility Operating License Nos. DPR-67 and NPF-16: Amendments revised the TSs by relocating references to specific American Society for Testing and Materials standards for fuel oil testing to licensee-controlled documents and adding alternate criteria to the “clear and bright” acceptance test for new fuel oil.

Date of initial notice in Federal Register: February 10, 2009 (74 FR 6666).

The Commission's related evaluation of the amendments is contained in a Safety Evaluation dated April 14, 2009.

No significant hazards consideration comments received: No.

Northern States Power Company, LLC, Docket No. 50-263, Monticello Nuclear Generating Plant, Wright County, Minnesota

Date of application for amendment: September 25, 2007, as supplemented by letters dated September 8, 2008, November 6, 2008, January 20, 2009 and April 2, 2009.

Brief description of amendment: The amendment revised the allowable value and channel calibration frequency for Function 2.j, Recirculation Riser Differential Pressure—High Function (Break Detection), in Table 3.3.5.1-1, “Emergency Core Cooling system Instrumentation.”

Date of issuance: April 7, 2009.

Effective date: As of the date of issuance and shall be implemented within 90 days.

Amendment No.: 161.

Facility Operating License No. DPR-22: Amendment revised the Technical Specifications.

Date of initial notice in Federal Register: November 20, 2007 (72 FR 65368).

The supplemental letters contained clarifying information, did not change the initial no significant hazards consideration determination, and did not expand the scope of the original Federal Register notice.

The Commission's related evaluation of the amendment is contained in a Safety Evaluation dated April 7, 2009.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of application for amendments: July 15, 2008.

Brief description of amendments: The amendments revise the TS 5.5.7 Ventilation Filter Testing Program to eliminate the requirement to test the power output of the Standby Gas Treatment System's electric heater and to increase the relative humidity for the testing of the charcoal filter adsorber. Also, a surveillance requirement is being revised to eliminate reference to the heater and to shorten the required SGTS run time.

Date of issuance: April 15, 2009.

Effective date: As of the date of issuance and shall be implemented within 60 days from the date of issuance.

Amendment Nos.: 261 and 205.

Renewed Facility Operating License Nos. DPR-57 and NPF-5: Amendments revised the licenses and the technical specifications.

Date of initial notice in Federal Register: February 10, 2009 (74 FR 6668). The Commission's related evaluation of the amendments is contained in a Safety Evaluation dated April 15, 2009.

No significant hazards consideration comments received: No.

Tennessee Valley Authority, Docket Nos. 50-327 and 50-328, Sequoyah Nuclear Plant, Units 1 and 2, Hamilton County, Tennessee

Date of application for amendments: April 15, 2008, as supplemented on December 10, 2008.

Brief description of amendments: The amendments revise the Sequoyah Unit 1 and Unit 2 technical specifications to be more consistent with those of NUREG-1431, Revision 3.0, “Standard Technical Specifications Westinghouse Plants.”

Date of issuance: April 13, 2009.

Effective date: As of the date of issuance and shall be implemented within 45 days.

Amendment Nos.: 323 and 315.

Facility Operating License Nos. DPR-77 and DPR-79: Amendments revised the technical specifications.

Date of initial notice in Federal Register: May 20, 2008 (73 FR 29164). The December 10, 2008, supplemental letter provided clarifying information that was within the scope of the initial notice and did not change the initial proposed no significant hazards consideration determination.

The Commission's related evaluation of the amendments is contained in a Safety Evaluation dated April 13, 2009.

No significant hazards consideration comments received: No.

Virginia Electric and Power Company, et al., Docket No. 50-280, Surry Power Station, Unit 1, Surry County, Virginia

Date of application for amendment: October 14, 2008, as supplemented February 20, 2009.

Brief description of amendments: These amendments revise Technical Specification (TS) 6.4.Q, “Steam Generator (SG) Program,” and TS 6.6.A.3, “Steam Generator Tube Inspection Report,” to incorporate an interim alternate repair criterion into the provisions for SG tube repair for use during the Surry 1 2009 spring refueling outage (R-22) and the subsequent operating cycle.

Date of issuance: April 8, 2009.

Effective date: As of the date of issuance and shall be implemented prior to increasing reactor coolant system temperature above 200 °F during startup of Surry Unit 1 from refueling outage 22.

Amendment No.: 263.

Renewed Facility Operating License No. DPR-32: Amendment changes the license and the technical specifications.

Date of initial notice in Federal Register: December 16, 2008 (73 FR 76414). The supplement dated February 20, 2009 provided additional information that clarified the application, did not expand the scope of the application as originally noticed, and did not change the staff's original proposed no significant hazards consideration determination.

The Commission's related evaluation of the amendment is contained in a Safety Evaluation dated April 8, 2009.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated on August 28, 2007, (72 FR 49139). The E-Filing process requires participants to submit and serve adjudicatory documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC electronic filing Help Desk, which is available between 8 a.m. and 8 p.m., Eastern Time, Monday through Friday, excluding government holidays. The electronic filing Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Florida Power and Light Company, Docket Nos. 50-250 and 50-251, Turkey Point Plant, Units 3 and 4, Miami-Dade County, Florida

Date of amendment request: April 15, 2009.

Description of amendment request: The amendments revised Technical Specification (TS) 3.9.10, Water Level—Reactor Vessel by eliminating control rods from the Applicability, Action and surveillance requirement during refueling operations. The change is consistent with Standard Technical Specifications—Westinghouse Plants, NUREG-1431, Revision 3.

Date of issuance: April 15, 2009.

Effective date: As of the date of issuance and shall be implemented prior to lifting the Unit 3 reactor vessel closure head.

Amendment Nos.: 239 and 234.

Facility Operating License Nos. (DPR-31 and DPR-41): Amendments revised the technical specifications.

Public comments requested as to proposed no significant hazards consideration (NSHC): No.

The Commission's related evaluation of the amendment, finding of emergency circumstances, state consultation, and final NSHC determination are contained in a safety evaluation dated April 15, 2009.

Attorney for licensee: M.S. Ross, Attorney, Florida Power & Light, P.O. Box 14000, Juno Beach, Florida 33408-0420.

NRC Branch Chief: Thomas H. Boyce.

Dated at Rockville, Maryland, this 24th day of April 2009.
For the Nuclear Regulatory Commission.
Joseph G. Giitter,
Director, Division of Operating Reactor Licensing, Office of Nuclear Reactor Regulation.

[FR Doc. E9-10039 Filed 5-4-09; 8:45 am]

BILLING CODE P